MERIT SYSTEMS PROTECTION BOARD

5 CFR Part 1207

Enforcement of Nondiscrimination on the Basis of Disability in Programs or Activities

AGENCY: Merit Systems Protection Board.

ACTION: Final rule.

SUMMARY: The Merit Systems Protection Board (MSPB or “the Board”) is publishing final regulations that adopt previously published interim regulations revising 5 CFR part 1207. These final regulations are necessary to reconcile the Board's regulations with Section 504 of the Rehabilitation Act of 1973, as amended, 29 U.S.C. 794, and to clarify the procedures for processing those complaints filed against the Board that allege discrimination on the basis of disability during the Board's adjudication of a related employee appeal.

DATES: This rule is effective August 26, 2005.

FOR FURTHER INFORMATION CONTACT: Bentley M. Roberts, Jr., Clerk of the Board, Merit Systems Protection Board, 1615 M Street, NW., Washington, DC 20419; (202) 653-7200; fax: (202) 653-7130; or e-mail: mspb@mspb.gov.

SUPPLEMENTARY INFORMATION: On May 9, 2005, the Board published amendments to 5 CFR part 1207 as an interim rule with request for comments (70 FR 24293). The Board received no comments during the 60 days allowed for receipt of public comments. This final rule makes no changes to the previously published interim rule. See 70 FR 24293 for additional information concerning the Board's revision of 5 CFR 1207.

Accordingly, the Board adopts the interim rule published at 70 FR 24293 on May 9, 2005, as a final rule effective August 26, 2005.

Bentley M. Roberts, Jr.,
Clerk of the Board.

[FR Doc. 05-17050 Filed 8-25-05; 8:45 am]

BILLING CODE 7400-01-P